DEPARTMENT OF THE INTERIOR

National Park Service

[2253-665]

Notice of Inventory Completion: History Colorado, Denver, CO

AGENCY: National Park Service, Interior.

ACTION: Notice.

SUMMARY: History Colorado (formerly the Colorado Historical Society) has completed an inventory of human remains, in consultation with the appropriate Indian tribes, and has determined that there is insufficient evidence to reasonably establish cultural affiliation between the human remains and present-day Indian tribes. Representatives of any Indian tribe that believes itself to be culturally affiliated with the human remains may contact History Colorado. Disposition of the human remains to the Indian tribes stated below may occur if no additional claimants come forward.

DATES: Representatives of any Indian tribe that believes it has a cultural affiliation with the human remains should contact History Colorado at the address below by March 28, 2012.

ADDRESSES: Sheila Goff, NAGPRA Liaison, History Colorado, 1200 Broadway, Denver, CO 80203, telephone (303) 866-4531.

SUPPLEMENTARY INFORMATION: Notice is here given in accordance with the Native American Graves Protection and Repatriation Act (NAGPRA), 25 U.S.C. 3003, of the completion of an inventory of human remains under control of History Colorado, Denver, CO. The exact locations from which the human remains were recovered are unknown; they were received through police seizures or private citizens in Arapaho, Boulder, Delta, Dolores, Jefferson, and Larimer Counties, CO.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

In 2010 and 2011, a detailed assessment of the human remains was made by History Colorado professional staff in consultation with representatives of the Arapahoe Tribe of the Wind River Reservation, Wyoming; Cheyenne and Arapaho Tribes, Oklahoma (formerly the Cheyenne-Arapaho Tribes of Oklahoma); Fort Sill Apache Tribe of Oklahoma; Hopi Tribe of Arizona; Jicarilla Apache Nation, New Mexico; Mescalero Apache Tribe of the Mescalero Reservation, New Mexico; Navajo Nation, Arizona, New Mexico, & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of San Ildefonso, New Mexico; Pueblo of Santa Ana, New Mexico; Pueblo of Santa Clara, New Mexico; Pueblo of Tesuque, New Mexico; Southern Ute Indian Tribe of the Southern Ute Indian Reservation, Colorado; Ute Mountain Tribe of the Ute Mountain Reservation, Colorado, New Mexico & Utah; Ysleta Del Sur Pueblo of Texas; and the Zuni Tribe of the Zuni Reservation, New Mexico. The following tribes were invited to consult, but did not send representatives: Kewa Pueblo, New Mexico (formerly the Pueblo of Santo Domingo); Pueblo of Picuris, New Mexico; Pueblo of San Felipe, New Mexico; Pueblo of Sandia, New Mexico; Pueblo of Taos, New Mexico; and the Pueblo of Zia, New Mexico.

For one case, identified as Office of Archaeology and Historic Preservation (OAHP) Case Number 103, additional tribes were contacted during previous consultation in 2001 and 2006: Comanche Nation, Oklahoma; Kiowa Indian Tribe of Oklahoma; Northern Cheyenne Tribe of the Northern Cheyenne Reservation, Montana; Oglala Sioux Tribe of the Pine Ridge Reservation, South Dakota; Pawnee Nation of Oklahoma; Rosebud Sioux Tribe of the Rosebud Indian Reservation, South Dakota; Three Affiliated Tribes of the Fort Berthold Reservation, North Dakota; and the Ute Indian Tribe of the Uintah & Ouray Reservation, Utah. The following tribes were invited to consult, but did not send representatives: Apache Tribe of Oklahoma; Shoshone Tribe of the Wind River Reservation, Wyoming; and the Wichita and Affiliated Tribes (Wichita, Keechi, Waco & Tawakonie), Oklahoma.

History and Description of the Remains

In 1994, human remains representing, at minimum, one individual were seized by the Wheat Ridge Police Department during a drug raid in Jefferson County, CO. The origin of the remains is unknown. The remains were turned over to the Jefferson County Coroner, who identified them as Native American. In February 1995, they were transferred to History Colorado. The remains are identified as OAHP Case Number 103. Additional osteological analysis disclosed cranial modification. No known individuals were identified. No associated funerary objects are present.

The remains were first reported in a Notice of Inventory Completion in the Federal Register (66 FR 10906-10909, Tuesday, February 20, 2001) and jointly affiliated with twelve Plains Tribes. Additional research changed the affiliation to culturally unidentifiable and this was reported in a Notice of Inventory Completion Correction in the Federal Register (76 FR 58037-58038, Monday, September 19, 2011).

At an unknown date prior to 2002, human remains representing, at minimum, three individuals were taken from Colorado State University in Larimer County, CO. The exact origins of these individuals are not known. The human remains were claimed as private property by the widow of Dr. Michael Charney, a former professor at the University, who died in 1998. The human remains were subsequently taken into custody by the Larimer County Sheriff's Office. Following litigation, in 2006, the human remains, which were initially identified as Native American, were transferred to History Colorado by court order to be repatriated in accordance with Colorado state burial law and NAGPRA. They are identified as OAHP Case Number 200. Subsequent osteological analysis by History Colorado determined that they exhibit cranial modification and are of Native American ancestry. No known individuals were identified. No associated funerary objects are present.

In May 2005, human remains representing, at minimum, two individuals were transferred to History Colorado by the Dolores County, CO, Sheriff's office. They are identified as OAHP Case Number 225. The remains had been stored in an evidence locker for at least five years. The exact origin of these individuals is not known. Osteological analysis arranged by the sheriff indicated that the remains exhibit cranial modification and are of Native American ancestry. Estimated antiquity is A.D. 700-1300. No known individuals were identified. No associated funerary objects are present.

In January 2006, human remains representing, at minimum, one individual were transferred to History Colorado by the Delta County Coroner's office. They are identified as OAHP Case Number 235. The remains had reportedly been in the possession of a Delta County family for years and allegedly were discovered when another family member was plowing his field in Cortez, CO. Osteological examination determined that the remains exhibit cranial modification and are of Native American ancestry. No known individuals were identified. No associated funerary objects are present.

In February 2007, human remains representing, at minimum, three individuals were recovered from the closet of a private citizen in Dolores County, CO. The exact origin of the remains is unknown. Osteological analysis determined that the remains exhibit cranial modification and are of Native American ancestry. The Dolores County Sheriff transferred the remains to History Colorado in March 2007. They are identified as OAHP Case Number 247. No known individuals were identified. No associated funerary objects are present. One ceramic cylinder, 1 polished stone, and 3 black-on-white potsherds were found with the remains in the closet, but it is not possible to determine if they are associated funerary objects and were part of the original burial context. These objects will be transferred with the individuals.

In March 2007, human remains representing, at minimum, one individual were seized from the home of a private citizen in Arapaho County, CO. The citizen stated that he had obtained them at a swap meet in Summit County, CO. The origin of the remains is unknown. The Arapaho County Coroner transferred the remains to History Colorado in March 2007. They are identified as OAHP Case Number 249. Osteological analysis determined the remains exhibit cranial modification and are of Native American ancestry. No known individuals were identified. No associated funerary objects are present.

In June 2007, human remains representing, at minimum, one individual were transferred to History Colorado by the Boulder County Coroner's Office. They are identified as OAHP Case Number 251. The remains had originally been taken to the Native American Rights Fund office in Boulder by a private citizen, who stated that she had found them in her deceased father's basement. They had been abandoned by one of his renters. She was advised to take them to the county coroner. The origin of the remains is unknown. Osteological examination determined that the remains exhibit cranial modification and are of Native American ancestry. No known individuals were identified. No associated funerary objects are present.

Determinations Made by History Colorado

Officials at History Colorado have determined that:

• Pursuant to 25 U.S.C. 3001(9)-(10), the human remains described above represent the physical remains of 12 individuals of Native American ancestry.

• Pursuant to 25 U.S.C. 3001(2), a relationship of shared group identity cannot be reasonably traced between the Native American human remains described above and any present-day Indian tribe.

History Colorado has determined that the human remains are “culturally unidentifiable” under NAGPRA, 43 CFR 10.9 (e)(6). In 2006, the History Colorado, in partnership with the Colorado Commission of Indian Affairs, Southern Ute Indian Tribe of the Southern Ute Reservation, Colorado, and the Ute Mountain Tribe of the Ute Mountain Reservation, Colorado, New Mexico & Utah conducted consultations with the tribes that have ancestral ties to the state of Colorado to develop the process for disposition of culturally unidentifiable Native American human remains and associated funerary objects originating from inadvertent discoveries on Colorado state and private lands. As a result of the consultation, a process was developed, titled Process for Consultation, Transfer, and Reburial of Culturally Unidentifiable Native American Human Remains and Associated Funerary Objects Originating From Inadvertent Discoveries on Colorado State and Private Lands (2008) (unpublished, on file with the Colorado Office of Archaeology and Historic Preservation). The presence of cranial modification suggested that these individuals may have originated from the southwestern Colorado, but without additional evidence, it is not possible to make a cultural affiliation. The tribes consulted were those who expressed their wishes to be notified of discoveries in the Southwest Consultation Region as established by the Process.

The Native American Graves Protection and Repatriation Review Committee (Review Committee) is responsible for recommending specific actions for disposition of culturally unidentifiable human remains. On November 3-4, 2006, the Process was presented to the Review Committee for consideration. A January 8, 2007 letter on behalf of the Review Committee from the Designated Federal Officer transmitted the provisional authorization to proceed with the Process upon receipt of formal responses from the Jicarilla Apache Nation, New Mexico, and Kiowa Indian Tribe of Oklahoma, and subject to forthcoming conditions imposed by the Secretary of the Interior. On May 15-16, 2008, the responses from the Jicarilla Apache Nation, New Mexico, and Kiowa Indian Tribe of Oklahoma were submitted to the Review Committee. On September 23, 2008, the Assistant Secretary for Fish and Wildlife and Parks, as the designee for the Secretary of the Interior, transmitted the authorization for the disposition of culturally unidentifiable human remains according to the Process and NAGPRA, pending publication of a Notice of Inventory Completion in the Federal Register. This notice fulfills that requirement.

43 CFR 10.11 was promulgated March 15, 2010, providing a process for the disposition of culturally unidentifiable Native American human remains recovered from tribal or aboriginal lands as established by the final judgment of the Indian Claims Commission or U.S. Court of Claims, a treaty, Act of Congress, or Executive Order, or other authoritative governmental sources. There is no evidence indicating that the human remains reported in this notice originated from tribal or aboriginal lands, making them eligible for disposition under the Process.

Additional Requestors and Disposition

Representatives of any other Indian tribe that believes itself to be culturally affiliated with the human remains should contact Sheila Goff, NAGPRA Liaison, History Colorado, 1200 Broadway, Denver, CO 80203, telephone (303) 866-4531, before March 28, 2012. Transfer of control of the human remains to the Southern Ute Indian Tribe of the Southern Ute Reservation, Colorado, and the Ute Mountain Tribe of the Ute Mountain Reservation, Colorado, New Mexico & Utah may proceed after that date if no additional claimants come forward.

History Colorado is responsible for notifying the Apache Tribe of Oklahoma; Arapahoe Tribe of the Wind River Reservation, Wyoming; Cheyenne and Arapaho Tribes, Oklahoma; Cheyenne River Sioux Tribe of the Cheyenne River Reservation, South Dakota; Comanche Nation, Oklahoma; Crow Creek Sioux Tribe of the Crow Creek Reservation, South Dakota; Crow Tribe of Montana; Fort Sill Apache Tribe of Oklahoma; Hopi Tribe of Arizona; Jicarilla Apache Nation, New Mexico; Kewa Pueblo, New Mexico (formerly Pueblo of Santo Domingo); Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico (formerly the Pueblo of San Juan); Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Rosebud Sioux Tribe of the Rosebud Indian Reservation, South Dakota; San Juan Southern Paiute Tribe of Arizona; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico & Utah; Wichita and Affiliated Tribes (Wichita, Keechi, Waco & Tawakoni), Oklahoma; Ysleta Del Sur Pueblo of Texas; and the Zuni Tribe of the Zuni Reservation, New Mexico, that this notice has been published.

Dated: February 22, 2012.
Sherry Hutt,
Manager, National NAGPRA Program.

[FR Doc. 2012-4531 Filed 2-24-12; 8:45 am]

BILLING CODE 4312-50-P